DEPARTMENT OF JUSTICE

[AAG/A Order No. 008-2005]

Justice Management Division; Privacy Act of 1974; System of Records

AGENCY: Office of Attorney Recruitment and Management, Justice Management Division, Justice.

ACTION: Notice of a new system of records.

SUMMARY: Pursuant to the provisions of the Privacy Act of 1974 (5 U.S.C. 552a), notice is given that the Department of Justice (DOJ or the Department), Justice Management Division's Office of Attorney Recruitment and Management (OARM), proposes to establish a new system of records entitled “Federal Bureau of Investigation Whistleblower Case Files, JMD-023.” The system maintains all documents and evidence filed with the Director of OARM, pertaining to requests for corrective action by employees of, or applicants for employment with, the Federal Bureau of Investigation (or recommendations for corrective action by the Department's Office of the Inspector General (OIG) or the Department's Office of Professional Responsibility (OPR)) made under the Federal Bureau of Investigation's (FBI's) whistleblower regulations, 28 CFR Part 27.

DATES: In accordance with the requirements of 5 U.S.C. 552a(e)(4) and (11), the public is given a 30-day period in which to comment. The Office of Management and Budget (OMB), which has oversight responsibility under the Act, has 40 days in which to conclude its review of the system. Therefore, please submit any comments by October 17, 2005.

ADDRESSES: The public, OMB, and the Congress are invited to submit any comments to Mary E. Cahill, Management and Planning Staff, Justice Management Division, Department of Justice, Washington, DC 20530 (Room 1400, National Place Building).

FOR FURTHER INFORMATION CONTACT: Louis DeFalaise, Director, Office of Attorney Recruitment and Management, Justice Management Division, Department of Justice, Washington, DC 20530 (Suite 5100, 20 Massachusetts Ave., NW.).

SUPPLEMENTARY INFORMATION: The Privacy Act (5 U.S.C. 552a(e)(4)) requires the Department to publish in the Federal Register this notice of a new system of records managed by the Department. The Privacy Act applies to a record about an individual that is maintained in a system of records from which information is retrieved by a unique identifier identified with each individual, such as a name or social security number. The information about each individual is called a “record,” and the system, whether manual or computer-driven, is called a “system of records.” The Privacy Act requires each agency to publish notices of systems of records in the Federal Register and to prepare reports to OMB whenever the agency publishes a new or “altered” system of records.

The records in this system are used by the Director of OARM to determine whether an employee of, or applicant for employment with, the FBI made a protected disclosure that was a contributing factor in the FBI's decision to take (or not take, or threaten to take or not take) a covered personnel action against the employee or applicant and, if so, what, if any, corrective action can and should be appropriately ordered.

The official version of this document is the document published in the Federal Register. Free Internet access to the official edition of the Federal Register and the Code of Federal Regulations is available on GPO Access at: http://www.access.gpo.gov/nara/index.html.

In accordance with 5 U.S.C. 552a(r), the Department has provided a report to OMB and the Congress.

Dated: August 31, 2005.
Paul R. Corts,
Assistant Attorney General for Administration.

Justice/JMD-023

SYSTEM NAME:

Federal Bureau of Investigation Whistleblower Case Files

SECURITY CLASSIFICATION:

The system itself is not classified. However, items or records within the system may have national security/foreign policy classifications.

SYSTEM LOCATION:

Records in this system are located at the Department of Justice, Justice Management Division, Office of Attorney Recruitment and Management (OARM), 20 Massachusetts Avenue, NW., Suite 5100, Washington, DC 20530.

CATEGORIES OF INDIVIDUALS COVERED BY THE SYSTEM:

Any employee of, or applicant for employment with, the FBI who has filed a request for corrective action with OARM (or for whom the Department of Justice's Office of Inspector General (OIG) or Office of Professional Responsibility (OPR) has made a recommendation for corrective action to OARM) pursuant to a claim of unlawful reprisal brought under the FBI whistleblower regulations, 28 CFR Part 27.

CATEGORIES OF RECORDS IN THE SYSTEM:

The records in the system relate to OARM's adjudication process and customarily include the employee's request for corrective action (or OIG's/OPR's recommendation for corrective action), the parties' submissions, correspondence between OARM and the parties, and OARM's Orders and Opinions. These records may also include, but are not limited to, status conference notes, and evidentiary submissions and exhibits (e.g., affidavits, depositions, video/audio tapes, electronic communications, newspaper articles, etc.). Records in the system may also contain OIG/OPR Reports of Investigation, including those that serve to terminate an investigation of alleged unlawful reprisal (subject to 28 CFR 27.3(h) and (i)).

AUTHORITY FOR MAINTENANCE OF THE SYSTEM:

5 U.S.C. 301; 44 U.S.C. 3101; 28 CFR Part 27.

PURPOSE(S):

The system maintains all documents and evidence filed with the Director of OARM pertaining to requests for corrective action by employees of, or applicants for employment with, the FBI (or recommendations for corrective action by OIG/OPR) brought under the FBI's whistleblower regulations, 28 CFR Part 27. The records in the system are used by the Director of OARM to determine whether an employee or applicant made a protected disclosure that was a contributing factor in the FBI's decision to take (or fail to take, or threaten to take or fail to take) a covered personnel action against the employee or applicant and, if so, what, if any, corrective action can and should be appropriately ordered.

ROUTINE USES OF RECORDS MAINTAINED IN THE SYSTEM, INCLUDING CATEGORIES OF USERS AND THE PURPOSES OF SUCH USES:

Records or information from this system of records may be disclosed under the following circumstances when it has been determined by the Department of Justice that such a need exists:

1. To the news media and the public pursuant to 28 CFR 50.2 unless it is determined that release of the specific information in the context of a particular case would constitute an unwarranted invasion of personal privacy.

2. To a Member of Congress or staff acting upon the Member's behalf when the Member or staff requests information on behalf of, and at the request of, the individual who is the subject of the record.

3. To the National Archives and Records Administration for purposes of records management inspections conducted under the authority of 44 U.S.C. 2904, 2906.

4. Where a record, either on its face or in conjunction with other information, indicates a violation or potential violation of law—criminal, civil, or regulatory in nature—the relevant records may be referred to the appropriate Federal, State, local, foreign, or tribal law enforcement authority or other appropriate agency charged with the responsibility of investigating or prosecuting such a violation or enforcing or implementing such law.

5. In an appropriate proceeding before a court, or administrative or adjudicative body, when the Department of Justice determines that the records are arguably relevant to the proceeding; or in an appropriate proceeding before an administrative or adjudicative body when the adjudicator determines the records to be relevant to the proceeding.

6. To an actual or potential party to litigation or administrative proceeding, or to the party's authorized representative, for the purpose of negotiation or discussion of such matters as settlement, plea bargaining, or in informal discovery proceedings.

7. To appropriate officials and employees of a Federal agency or entity which requires information relevant to a decision concerning the hiring, appointment, or retention of an employee; the issuance, renewal, suspension, or revocation of a security clearance; the execution of a security or suitability investigation; the letting of a contract; or the issuance of a grant or benefit.

8. To Federal, State, local, tribal, foreign, or international licensing agencies or associations which require information concerning the suitability or eligibility of an individual for a license or permit.

9. To contractors, grantees, experts, consultants, students, and others performing or working on a contract, service, grant, cooperative agreement, or other assignment for the Federal Government, when necessary to accomplish an agency function related to this system of records.

10. To a former employee of the Department for purposes of: responding to an official inquiry by a Federal, State, or local government entity or professional licensing authority, in accordance with applicable Department regulations; or facilitating communications with a former employee that may be necessary for personnel-related or other official purposes where the Department requires information and/or consultation assistance from the former employee regarding a matter within that person's former area of responsibility.

DISCLOSURE TO CONSUMER REPORTING AGENCIES:

Not applicable.

POLICIES AND PRACTICES FOR STORING, RETRIEVING, ACCESSING, RETAINING, AND DISPOSING OF RECORDS IN THE SYSTEM:

STORAGE:

Records are maintained in hard copy and in electronic form accessible with office automation software on Department personal computers within OARM's office suite.

RETRIEVABILITY:

Information is retrieved by the name of the individual who has filed a request for corrective action with OARM (or for whom OIG or OPR has made a recommendation for corrective action to OARM) pursuant to a claim of unlawful reprisal brought under the FBI whistleblower regulations, 28 CFR Part 27.

SAFEGUARDS:

Information in this system is safeguarded in accordance with applicable rules and policies, including the Department's automated systems security and access policies. Records in this system are maintained in restricted access space in Department of Justice controlled facilities and offices. All physical access to the building where this system of records is maintained is controlled and monitored by security personnel. Computerized data is password protected. The information is accessed only by authorized Department personnel or by non-Department personnel properly authorized to assist in the conduct of an agency function related to these records.

RETENTION AND DISPOSAL:

The retention and disposal schedule for these records is pending approval of the National Archives and Records Administration.

SYSTEM MANAGER(S) AND ADDRESS:

Director, Office of Attorney Recruitment and Management, Justice Management Division, Department of Justice, 20 Massachusetts Avenue, NW., Suite 5100, Washington, DC 20530.

NOTIFICATION PROCEDURE:

Address inquiries to the System Manager named above.

RECORD ACCESS PROCEDURES:

Requests for access must be in writing and should be addressed to the System Manager named above. The envelope and letter should be clearly marked “Privacy Act Request.” Requests for access to records must comply with the Department's Privacy Act regulations, to include a general description of the records sought, and the requester's full name, current address, and date and place of birth. The request must be signed and dated and either notarized or submitted under penalty of perjury. Some information may be exempt from access provisions as described in the section entitled “Exemptions Claimed for the System.” An individual who is the subject of a record in this system may access those records that are not exempt from disclosure. A determination whether a record may be accessed will be made at the time a request is received.

CONTESTING RECORD PROCEDURES:

Individuals desiring to contest or amend information maintained in the system should direct their request according to the Records Access procedures and to the System Manager above, stating clearly and concisely what information is being contested, the reasons for contesting it, and the proposed amendment to the information sought. Some information may be exempt from contesting record procedures as described in the section entitled “Exemptions Claimed for the System.” An individual who is the subject of a record in this system may amend those records that are not exempt. A determination whether a record may be amended will be made at the time a request is received.

RECORD SOURCE CATEGORIES:

Information in this system of records is obtained from the subject of the record and/or the subject's representative, the FBI, officials of the Department, and official Department documents.

EXEMPTIONS CLAIMED FOR THE SYSTEM:

The Attorney General has exempted this system from 5 U.S.C. 552a(c)(3) and (4); (d)(1), (2), (3), and (4); (e)(1), (2), (3), (5) and (8); and (g). The exemptions will be applied only to the extent that information in a record is subject to exemption pursuant to 5 U.S.C. 552a(j)(2), and (k). A determination as to exemption shall be made at the time a request for access or amendment is received. Rules have been promulgated in accordance with the requirements of 5 U.S.C. 553(b), (c), and (e), and have been published in the Federal Register.

[FR Doc. 05-17700 Filed 9-6-05; 8:45 am]

BILLING CODE 4410-FR-P